DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice.

DATES: Comments should be received on or before March 13, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Internal Revenue Service (IRS)

OMB Control Number: 1545-1529.

Type of Review: Reinstatement of a previously approved collection.

Title: Tip Reporting Alternative Commitment (TRAC) Agreement for Use in the Cosmetology and Barber Industry.

Form: None.

Abstract: Information is required by the Internal Revenue Service in its compliance efforts to assist employers and their employees in understanding and complying with section 6053(a), which requires employees to report all their tips monthly to their employers.

Affected Public: Businesses or other for-profits.

Estimated Total Annual Burden Hours: 43,073.

OMB Control Number: 1545-1549.

Type of Review: Reinstatement of a previously approved collection.

Title: Tip Reporting Alternative Commitment (TRAC) Agreement and Tip Rate Determination (TRDA) for Use in the Food and Beverage Industry.

Form: None.

Abstract: Information is required by the Internal Revenue Service in its compliance efforts to assist employers and their employees in understanding and complying with section 6053(a), which requires employees to report all their tips monthly to their employers.

Affected Public: Businesses or other for-profits.

Estimated Total Annual Burden Hours: 296,896.

OMB Control Number: 1545-1669.

Type of Review: Reinstatement of a previously approved collection.

Title: REG-108639-99 Retirement Plans; Cash or Deferred Arrangements Under Section 401(k) and Matching Contributions or Employee Contributions Under Section 401(m); TD 9169.

Form: None.

Abstract: The regulations provide guidance for qualified retirement plans containing cash or deferred arrangements under section 401(k) and providing matching contributions or employee contributions under section 401(m). The IRS needs this information to ensure compliance with sections 401(k) and 401(m).

Affected Public: Businesses or other for-profits.

Estimated Total Annual Burden Hours: 106,500.

OMB Control Number: 1545-1589.

Type of Review: Reinstatement of a previously approved collection.

Title: Revenue Procedure 98-19, Exceptions to the notice and reporting requirements of section 6033(e)(1) and the tax imposed by section 6033(e)(2).

Form: None.

Abstract: Revenue Procedure 98-19 provides guidance to organizations exempt from taxation under section 501(a) of the Internal Revenue Code of 1986 on certain exceptions from the reporting and notice requirements of section 6033(e)(1) and the tax imposed by section 6033(e)(2).

Affected Public: Businesses or other for-profits.

Estimated Total Annual Burden Hours: 150,000.

OMB Control Number: 1545-2049.

Type of Review: Reinstatement of a previously approved collection.

Title: Notice 2006-107—Diversification Requirements for Qualified Defined Contribution Plans Holding Publicly Traded Employer Securities.

Form: None.

Abstract: This notice contains two model forms that may be used by employers to notify plan participants of their diversification rights under sections 901 and 507 of the Pension Protection Act of 2006.

Affected Public: Businesses or other for-profits.

Estimated Total Annual Burden Hours: 7,725.

Authority: 44 U.S.C. 3501 et seq.

Dated: January 24, 2017.
Spencer W. Clark,
Treasury PRA Clearance Officer.

[FR Doc. 2017-02689 Filed 2-8-17; 8:45 am]

BILLING CODE 4830-01-P